DEPARTMENT OF HEALTH AND HUMAN SERVICES

Centers for Medicare & Medicaid Services

42 CFR Parts 413 and 424

[CMS-1446-CN2]

RIN 0938-AR65

Medicare Program; Prospective Payment System and Consolidated Billing for Skilled Nursing Facilities for FY 2014; Correction

AGENCY: Centers for Medicare & Medicaid Services (CMS), HHS.

ACTION: Final rule; correction.

SUMMARY: This document corrects a technical error that appeared in the final rule published in the August 6, 2013 Federal Register entitled “Medicare Program; Prospective Payment System and Consolidated Billing for Skilled Nursing Facilities for FY 2014.”

DATES: Effective Date: This correction is effective January 2, 2014.

FOR FURTHER INFORMATION CONTACT: John Kane, (410) 786-0557.

SUPPLEMENTARY INFORMATION:

I. Background

On October 3, 2013, we published a correction notice (FR Doc. 2013-24080, 78 FR 61202) to correct a number of technical errors that appeared in the FY 2014 Skilled Nursing Facility Prospective Payment System (SNF PPS) final rule on August 6, 2013 (FR Doc. 2013-18776, 78 FR 47936). In this notice, we are correcting an additional technical error in the wage index values. Specifically, we have determined that in the process of developing the most recent hospital wage index, the wage data of a hospital in Core-Based Statistical Area (CBSA) 44140, Springfield, MA, was inadvertently included in that CBSA, though it should not have been included in the wage index data. Accordingly, we are removing the wage data for this provider from CBSA 44140. In Table A, “FY 2014 Wage Index for Urban Areas Based on CBSA Labor Market Areas,” we are revising the wage index value for CBSA 44140 Springfield, MA from 1.0378 to the corrected value of 1.0383, in order to reflect the removal of the hospital in question from the wage data for that CBSA. As we are revising the entry for only that one particular CBSA, we are not republishing the lengthy Table A in its entirety in this notice. We note that the corrected version of this table is available online on the SNF PPS Web site, at http://www.cms.gov/Medicare/Medicare-Fee-for-Service-Payment/SNFPPS/WageIndex.html.

In a correction notice for inpatient prospective payment system (IPPS) hospitals and long-term care hospitals (LTCHs) that is being published concurrently in this issue of the Federal Register (Medicare Program; Hospital Inpatient Prospective Payment Systems for Acute Care Hospitals and the Long-Term Care Hospital Prospective Payment System and Fiscal Year 2014 Rates; Quality Reporting Requirements for Specific Providers; Hospital Conditions of Participation; Payment Policies Related to Patient Status; Corrections (CMS-1599 & 1455-CN3)), we are making a similar midyear correction to the IPPS hospital wage index to reflect the removal of the wage index data of the hospital referenced above. As discussed in that correction notice, this IPPS wage index correction is being made prospectively. Since the implementation of the SNF PPS, we have used the pre-floor, pre-reclassified, no occupational mix IPPS hospital wage data in developing a wage index to be applied to SNFs. Thus, this correction will also apply prospectively to the SNF PPS wage index to conform the published SNF PPS wage index values to the corresponding, prospectively revised IPPS wage index values. We note that a more detailed discussion of the correction to the IPPS hospital wage index and its effective date is included in CMS-1599 & 1455-CN3 referenced above.

The correction in this document appears below in the “Correction of Errors” section. The provisions in this correction notice are effective as of January 2, 2014.

II. Summary of Errors

The wage data of a hospital in CBSA 44140, Springfield, MA, was inadvertently included in that CBSA, though it should not have been included in the wage index data. In Table A, “FY 2014 Wage Index for Urban Areas Based on CBSA Labor Market Areas,” we are revising the wage index value for CBSA 44140 Springfield, MA from 1.0378 to the corrected value of 1.0383, in order to reflect the removal of the hospital in question from the wage data for that CBSA.

III. Waiver of Proposed Rulemaking and Delayed Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefor in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

In our view, this correcting document does not constitute a rule that would be subject to the APA notice and comment or delayed effective date requirements. This correcting document simply corrects a single technical error in Table A of the FY 2014 SNF PPS final rule, and does not make substantive changes to the policies or payment methodologies that were adopted in the final rule. As a result, this correcting document is intended to ensure that the information set forth in Table A of the FY 2014 SNF PPS final rule (and posted on the CMS Web site) accurately reflects the policies adopted in that final rule.

In addition, even if this correcting document were a rule to which the notice and comment and delayed effective date requirements applied, we find that there is good cause to waive such requirements. Undertaking further notice and comment procedures to incorporate the correction in this document into the final rule or delaying the effective date would be contrary to the public interest, because it is in the public's interest for providers to receive appropriate SNF PPS payments in as timely a manner as possible and to ensure that the FY 2014 SNF PPS final rule accurately reflects our payment methodologies, payment rates, and policies. Furthermore, such procedures would be unnecessary, as we are not altering our payment methodologies or policies, but rather, are simply implementing correctly the payment methodologies and policies that we previously proposed, received comment on, and subsequently finalized. This correction document is intended solely to ensure that the FY 2014 SNF PPS final rule accurately reflects these payment methodologies and policies. Therefore, we find good cause to waive notice and comment procedures, as well as the 30-day delay in effective date.

IV. Correction of Errors

In FR Doc. 2013-18776 (78 FR 47936), make the following correction:

A. Correction to the Addendum

1. On page 47976, in column 3 of Table A, the entry “1.0378” for CBSA 44140 Springfield, MA is corrected to read “1.0383”.

(Catalog of Federal Domestic Assistance Program No. 93.773, Medicare—Hospital Insurance; and Program No. 93.774, Medicare—Supplementary Medical Insurance Program)

Dated: December 23, 2013.
Oliver Potts,
Deputy Executive Secretary to the Department, Department of Health and Human Services.

[FR Doc. 2013-31435 Filed 12-31-13; 8:45 am]

BILLING CODE 4120-01-P